DEPARTMENT OF TRANSPORTATION

Surface Transportation Board

[STB Docket Nos. AB-486 (Sub-No. 2X) and AB-33 (Sub. No. 154X)]

Kyle Railroad Company—Discontinuance of Service Exemption—in Smith, Phillips and Norton Counties, KS and Union Pacific Railroad Company—Abandonment Exemption—in Smith, Phillips and Norton Counties, KS

On August 28, 2000, Kyle Railroad Company (Kyle) and Union Pacific Railroad Company (UP) (collectively, petitioners) jointly filed with the Surface Transportation Board (Board) a petition under 49 U.S.C. 10502 for exemption ¹ from the provisions of 49 U.S.C. 10903 for Kyle to discontinue service over and UP to abandon a 70.5-mile segment of a line of railroad known as the Lenora Branch, extending from milepost 552.7 near Harlan to the end of the line at milepost 623.6 near Lenora, in Smith, Phillips, and Norton Counties, KS.² The line traverses U.S. Postal Zip Codes 67638, 67628, 67626, 67644, 67639, 67661, 67646, and 67645, and includes the stations of Gaylord (milepost 557.8), Cedar (milepost 563.0), Claudell (milepost 567.4), Kirwin (milepost 572.4), Glade (milepost 583.1), Speed (milepost 589.8), Logan (milepost 598.5), and Edmond (milepost 612.9).

¹ Petitioners' original petition for exemption was filed on August 23, 2000. On August 28, 2000, Kyle filed supplemental information that had been omitted from the original petition. Accordingly, August 28, 2000, when all of the required information was submitted, is considered to be the actual filing date and the due dates in this notice are based on that date.

² Petitioners state that milepost 582.52 is equivalent to milepost 582.92, which makes the line 0.4 mile shorter than it would appear from the terminal mileposts.

The line does not contain federally granted rights-of-way. Any documentation in the railroad's possession will be made available promptly to those requesting it.

The interest of railroad employees will be protected by Oregon Short Line R. Co.—Abandonment—Goshen, 360 I.C.C. 91 (1979).

By issuance of this notice, the Board is instituting an exemption proceeding pursuant to 49 U.S.C. 10502(b). A final decision will be issued by December 15, 2000.

Any offer of financial assistance (OFA) under 49 CFR 1152.27(b)(2) will be due no later than 10 days after service of a decision granting the petition for exemption. Each OFA must be accompanied by the filing fee, which currently is set at $1,000. See 49 CFR 1002.2(f)(25).

All interested persons should be aware that, following abandonment of rail service and salvage of the line, the line may be suitable for other public use, including interim trail use. Any request for a public use condition under 49 CFR 1152.28 or for trail use/rail banking under 49 CFR 1152.29 will be due no later than October 5, 2000. Each trail use request must be accompanied by a $150 filing fee. See 49 CFR 1002.2(f)(27).

All filings in response to this notice must refer to STB Docket Nos. AB-486 (Sub-No. 2X) and AB-33 (Sub-No. 154X) and must be sent to: (1) Surface Transportation Board, Office of the Secretary, Case Control Unit, 1925 K Street, N.W., Washington, DC 20423-0001; (2) Fritz R. Kahn, 1920 N Street, N.W. (8th Floor), Washington, DC 20036-1601; and (3) James P. Gatlin, 1416 Dodge Street (#830), Omaha, NE 68179-0001. Replies to the petition are due on or before October 5, 2000.

Persons seeking further information concerning abandonment procedures may contact the Board's Office of Public Services at (202) 565-1592 or refer to the full abandonment or discontinuance regulations at 49 CFR part 1152. Questions concerning environmental issues may be directed to the Board's Section of Environmental Analysis (SEA) at (202) 565-1545. [TDD for the hearing impaired is available at 1-800-877-8339.]

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our website at “WWW.STB.DOT.GOV.”

Decided: September 8, 2000.
By the Board, David M. Konschnik, Director, Office of Proceedings.
Vernon A. Williams,
Secretary.

[FR Doc. 00-23661 Filed 9-14-00; 8:45 am]

BILLING CODE 4915-00-P